DEPARTMENT OF THE TREASURY

Office of Foreign Assets Control

Unblocking of Specially Designated National and Blocked Persons Pursuant to the Foreign Narcotics Kingpin Designation Act

AGENCY: Office of Foreign Assets Control, Treasury.

ACTION: Notice.

SUMMARY: The Treasury Department's Office of Foreign Assets Control (“OFAC”) is publishing the name of two individuals whose property and interests in property have been unblocked pursuant to the Foreign Narcotics Kingpin Designation Act (“Kingpin Act”) (21 U.S.C. 1901-1908, 8 U.S.C. 1182).

DATES: The unblocking and removal from the list of Specially Designated Nationals and Blocked Persons (“SDN List”) of the two individuals identified in this notice whose property and interests in property were blocked pursuant to the Kingpin Act is effective on May 21, 2010.

FOR FURTHER INFORMATION CONTACT: Assistant Director, Compliance Outreach & Implementation, Office of Foreign Assets Control, Department of the Treasury, Washington, DC 20220, tel.: 202/622-2420.

SUPPLEMENTARY INFORMATION:

Electronic and Facsimile Availability

This document and additional information concerning OFAC are available from OFAC's Web site (http://www.treas.gov/ofac) via facsimile through a 24-hour fax-on demand service, tel.: (202) 622-0077.

Background

The Kingpin Act became law on December 3, 1999. The Act provides a statutory framework for the President to impose sanctions against significant foreign narcotics traffickers and their organizations on a worldwide basis, with the objective of denying their businesses and agents access to the U.S. financial system and to the benefits of trade and transactions involving U.S. companies and individuals.

The Kingpin Act blocks all property and interests in property, subject to U.S. jurisdiction, owned or controlled by significant foreign narcotics traffickers as identified by the President. In addition, the Secretary of the Treasury consults with the Attorney General, the Director of the Central Intelligence Agency, the Director of the Federal Bureau of Investigation, the Administrator of the Drug Enforcement Administration, the Secretary of Defense, the Secretary of State, and the Secretary of Homeland Security when designating and blocking the property of interests in property, subject to U.S. jurisdiction, of persons who are found to be: (1) Materially assisting in, or providing financial or technological support for or to, or providing goods or services in support of, the international narcotics trafficking activities of a person designated pursuant to the Kingpin Act; (2) owned, controlled, or directed by, or acting for or on behalf of, a person designated pursuant to the Kingpin Act; or (3) playing a significant role in international narcotics trafficking.

On May 21, 2010, OFAC removed from the SDN List the individuals listed below, whose property and interests in property were blocked pursuant to the Kingpin Act:

1. VALENCIA MARTINEZ, Alberto Alfredo, Avenida I.T.R. 2207, Colonia Tecnologico, Tijuana, Baja California, Mexico; Calle Geiser 101, Colonia Colinas de Agua Caliente, Tijuana, Baja California, Mexico; Avenida Hipodromo 19, Colonia Hipodromo, Tijuana, Baja California, Mexico; Calle Lomas Altas 1480, Colonia Lomas de Agua Caliente, Tijuana, Baja California, Mexico; Calle Coronado 21760, Colonia Mesetas del Guaycura, Tijuana, Baja California, Mexico; Blvd. Fundadores 0, Colonia El Rubi, Tijuana, Baja California, Mexico; c/o INMOBILIARIA TIJUANA COSTA S.A. DE C.S., Tijuana, Baja California, Mexico; DOB 8 Apr 1949; POB Tijuana, Baja California, Mexico; C.U.R.P. # VAMA490408HBCLRL08 (Mexico); R.F.C. # VAMA-490408-C6A (Mexico) (individual) [SDNTK]

2. GOMEZ LLANOS AISPURO, Jose Rolando, c/o COMERCIAL JOANA, S.A. DE C.V., Guadalajara, Jalisco, Mexico; Calle Bradley, No. 5, Col. Anzures, Deleg. Miguel Hidalgo, Mexico City, Distrito Federal, Mexico; Acoxpa Andador 9, Edificio 44, Colonia Villa, Coapa, Distrito Federal, Mexico; c/o COMERCIALIZADORA BRIMAR'S, S.A. DE. C.V., Culiacan, Sinaloa, Mexico; DOB 8 Feb 1971; alt. DOB 2 Feb 1971; POB Culiacan, Sinaloa, Mexico; citizen Mexico; nationality Mexico; Passport 340038412 (Mexico); alt. Passport 340015480 (Mexico); R.F.C. GOAR710208RS0 (Mexico) (individual) [SDNTK]

Dated: May 21, 2010.
Adam J. Szubin,
Director, Office of Foreign Assets Control.

[FR Doc. 2010-12901 Filed 5-27-10; 8:45 am]

BILLING CODE 4811-AL-P